DEPARTMENT OF STATE

[Public Notice: 12450]

30-Day Notice of Proposed Information Collection: Border Crossing Survey—U.S. Embassy Jerusalem Reporting Form

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to August 9, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Thales Dus, Bureau of Consular Affairs, Overseas Citizens Services (CA/OCS/MSU), U.S. Department of State, 600, 19th Street NW, Washington, DC 20522, who may be reached at mail to: DusT@state.gov or by phone at 202-485-6020.

SUPPLEMENTARY INFORMATION:

• Title of Information Collection: Border Crossing Survey—U.S. Embassy Jerusalem Reporting Form.

• OMB Control Number: 1405-0260.

• Type of Request: Renewal of a Currently Approved Collection.

• Originating Office: Bureau of Consular Affairs, Overseas Citizens Services (CA/OCS).

• Form Number: None.

• Respondents: U.S. citizens.

• Estimated Number of Respondents: 3,293.

• Estimated Number of Responses: 3,293.

• Average Time per Response: 20 minutes.

• Total Estimated Burden Time: 1,098 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Government of Israel (GOI) and the United States signed a Memorandum of Understanding (MOU) on Extension of Reciprocal Privileges and the Visa Waiver Program (VWP) in July 2023. This collection is used to monitor the GOI's commitment to provide non-discriminatory treatment of all U.S. Citizens traveling through Israeli controlled ports of entry and checkpoints in Israel, the West Bank, and Gaza and to be able to fully assess whether Israel is meeting the VWP reciprocity requirement as laid out in the MOU. This online survey is to allow U.S. Citizens to easily and voluntarily report their experiences seeking entry into Israel, including instances of discrimination, to the U.S. Embassy in Jerusalem. U.S. Citizens complete the form electronically, allowing for immediate and automatic date collection of form responses.

Methodology

This information will be collected via Microsoft survey.

Elizabeth Gracon,
Acting Deputy Assistant Secretary, Bureau of Consular Affairs/Office of Citizen Services, U.S. Department of State.

[FR Doc. 2024-15068 Filed 7-9-24; 8:45 am]

BILLING CODE 4710-06-P